DEPARTMENT OF ENERGY

Federal Energy Regulatory Commission

Combined Notice of Filings

Take notice that the Commission has received the following Natural Gas Pipeline Rate and Refund Report filings:

Filings Instituting Proceedings

Docket Numbers: RP95-408-084.

Applicants: Columbia Gas Transmission, LLC.

Description: Annual Report on Sharing Profits from Base Gas Sales with Customers of Columbia Gas Transmission, LLC.

Filed Date: 05/01/2017.

Accession Number: 20170501-5451.

Comment Date: 5:00 p.m. Eastern Time on Thursday, May 25, 2017.

Docket Numbers: RP17-750-000.

Applicants: Kinetica Deepwater Express, LLC.

Description: Kinetica Deepwater Express, LLC submits tariff filing per 154.204: Tariff Revision Filing to be effective 7/1/2017.

Filed Date: 05/18/2017.

Accession Number: 20170518-5054.

Comment Date: 5:00 p.m. Eastern Time on Tuesday, May 30, 2017.

Docket Numbers: RP17-751-000.

Applicants: Equitrans, L.P.

Description: Equitrans, L.P. submits tariff filing per 154.204: Equitrans' Clean Up Filing—May 2017 to be effective 6/19/2017.

Filed Date: 05/19/2017.

Accession Number: 20170519-5004.

Comment Date: 5:00 p.m. Eastern Time on Wednesday, May 31, 2017.

Docket Numbers: RP17-752-000.

Applicants: Rockies Express Pipeline LLC.

Description: Penalty Charge Reconciliation Filing of Rockies Express Pipeline LLC.

Filed Date: 05/19/2017.

Accession Number: 20170519-5185.

Comment Date: 5:00 p.m. Eastern Time on Wednesday, May 31, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 22, 2017.
Kimberly D. Bose,
Secretary.

[FR Doc. 2017-10858 Filed 5-25-17; 8:45 am]

BILLING CODE 6717-01-P